INTERNATIONAL TRADE COMMISSION

[Investigations Nos. 303-TA-23, 731-TA-566-570, and 731-TA-641 (Final) (Reconsideration) (Remand)]

Ferrosilicon From Brazil, China, Kazakhstan, Russia, Ukraine, and Venezuela

AGENCY: United States International Trade Commission.

ACTION: Notice of scheduling of additional procedures in remand proceedings.

SUMMARY: On April 11, 2002, the Commission issued a notice of scheduling of the court-ordered remand of its reconsideration proceedings pertaining to countervailing duty investigation No. 303-TA-23 (Final) concerning ferrosilicon from Venezuela, and antidumping investigations Nos. 731-TA-566-570 and 731-TA-641 (Final) concerning ferrosilicon from Brazil, China, Kazakhstan, Russia, Ukraine, and Venezuela (67 FR 18663 (April 16, 2002)). That notice specified the procedures the Commission would follow in the remand proceedings. The notice indicated the scheduling of some procedures would be announced at a later date. This notice provides a schedule of those remaining procedures.

EFFECTIVE DATE: July 2, 2002.

FOR FURTHER INFORMATION CONTACT: Christopher J. Cassise (202-708-5408), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

SUPPLEMENTARY INFORMATION:

Background

In its previous notice, the Commission provided scheduling information through the filing of the posthearing brief. Additional scheduling information for the remand proceedings is provided below.

Staff Report

The staff report in the remand proceedings will be placed in the nonpublic record on July 22, 2002, and a public version will be issued thereafter, pursuant to section 207.22 of the Commission's Rules of Practice and Procedure.

Written Submissions

On July 25, 2002, the Commission will make available to parties all information on which they have not had an opportunity to comment. Parties may submit final comments on this information on or before July 30, 2002, but such final comments must not contain new factual information and must otherwise comply with section 207.30 of the Commission's rules. All written submissions must conform with the provisions of section 201.8 of the Commission's rules; any submissions that contain business proprietary information (BPI) must also conform with the requirements of sections 201.6, 207.3, and 207.7 of the Commission's rules. The Commission's rules do not authorize filing of submissions with the Secretary by facsimile or electronic means.

In accordance with sections 201.16(c) and 207.3 of the Commission's rules, each document filed by a party to the investigations must be served on all other parties to the investigations (as identified by either the public or BPI service list), and a certificate of service must be timely filed. The Secretary will not accept a document for filing without a certificate of service.

Authority: This action is taken under the authority of title VII of the Tariff Act of 1930 as amended.

By order of the Commission.
Issued: July 5, 2002.
Marilyn R. Abbott,
Secretary to the Commission.

[FR Doc. 02-17340 Filed 7-9-02; 8:45 am]

BILLING CODE 7020-02-P